DEPARTMENT OF ENERGY

Federal Energy Regulatory Commission

[Docket No. RP00-260-012]

Texas Gas Transmission Corporation; Notice of Proposed Changes in FERC Gas Tariff

August 23, 2002

Take notice that on August 16, 2002 Texas Gas Transmission Corporation (Texas Gas) tendered for filing as part of its FERC Gas Tariff, Original Volume No. 1, the following tariff sheets to become effective August 1, 2001:

Substitute Eleventh Revised Sheet No. 14

Substitute Third Revised Sheet No. 185

Texas Gas is submitting these tariff sheets as a part of an errata filing to correct two inadvertent errors in its previous July 29, 2002 compliance filing containing tariff sheets to implement the settlement agreed to and approved in Docket No. RP00-260, et al. Both revisions should have been included as a part of the prospective settlement sheets to go into effect August 1, 2002, in accordance with the terms of the settlement.

Texas Gas states that copies of the revised tariff sheets are being mailed to Texas Gas's jurisdictional customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22046 Filed 8-28-02; 8:45 am]

BILLING CODE 6717-01-P